POSTAL REGULATORY COMMISSION

[Docket No. N2021-2; Order No. 5933]

Service Standard Changes

AGENCY: Postal Regulatory Commission.

ACTION: Notice.

SUMMARY: The Commission is revising the procedural schedule for the proposed service standard changes to First-Class Package Service. This notice informs the public of the revised procedural schedule.

DATES: Discovery requests are due: July 21, 2021; Postal Service's answers to discovery are due: July 28, 2021; Notices confirming intent to conduct oral cross-examination are due: July 28, 2021; Requests to present oral argument are due: July 28, 2021; Notices of designations are due: July 27, 2021; Notices of designated materials are due: July 30, 2021.

ADDRESSES: Submit filings electronically via the Commission's Filing Online system at http://www.prc.gov. Those who cannot submit filings electronically should contact the person identified in the FOR FURTHER INFORMATION CONTACT section by telephone for advice on filing alternatives.

FOR FURTHER INFORMATION CONTACT: David A. Trissell, General Counsel, at 202-789-6820.

SUPPLEMENTARY INFORMATION: On June 17, 2021, the Postal Service filed a request for an advisory opinion regarding planned changes to the service standards for First-Class Package Service.¹ On June 21, 2021, the Commission issued a notice and order concerning the Postal Service's request,² setting forth a procedural schedule for consideration of the planned changes. See Order No. 5920, Attachment 1.

¹ United States Postal Service Request for an Advisory Opinion on Changes in the Nature of Postal Services, June 17, 2021 (Request).

² Notice and Order on the Postal Service's Request for an Advisory Opinion on Changes in the Nature of Postal Services, June 21, 2021 (Order No. 5920).

On July 2, 2021, the Postal Service filed a notice of errata modifying certain pages of the Request and the supporting testimony filed on behalf of its three witnesses.³ The Postal Service also filed a notice revising the following supporting library references: USPS-LR-N2021-2-1, USPS-LR-N2021-2-4, USPS-LR-N2021-2-NP1, and USPS-LR-N20201-2-NP2.⁴ The Postal Service states that both sets of revisions are related to errors in how its summary tables were compiled and/or deficiencies in aggregating modeled results with unmodeled results. See Errata to Request and Testimony at 1-2.

³ Notice of the United States Postal Service of Revisions to Certain Pages of the Request for an Advisory Opinion, USPS-T-1, USPS-T-2, and USPS-T-3—Errata, July 2, 2021 (Errata to Request and Testimony).

⁴ Notice of the United States Postal Service of Revisions to Library References 1, 4, NP1, and NP2—Errata, July 2, 2021.

In order to provide sufficient time for parties to analyze the implications of the modified data that were submitted following the Postal Service's initial filing, the Commission finds good cause to adjust the procedural schedule as described below and in the Attachment appearing below the signature of this Order. See 39 CFR 3020.112(b).

The Commission previously set July 15, 2021 as the deadline for parties to file discovery requests regarding the Postal Service's direct case, and July 22, 2021 as the Postal Service's deadline to file answers to discovery requests. Order No. 5920 at 17. The deadline for parties to file discovery requests on the Postal Service's direct case has been changed to July 21, 2021, and the Postal Service's discovery answers must be filed by July 28, 2021.

The Commission previously set July 20, 2021 as the deadline for parties to file notices confirming intent to file a rebuttal case. Id. at 18. The deadline for parties to file these notices has been changed to July 23, 2021. The deadline to file a rebuttal case has been changed from July 29, 2021 to August 4, 2021. See id.

The Commission also stated that, assuming no rebuttal case is filed, any party that intends to conduct oral cross-examination shall file a notice of intent to do so by July 22, 2021. Id. at 19. The deadline for parties to file notices of intent to conduct oral cross-examination has been changed to July 28, 2021. The previous deadline for Notices of Designations was set for July 23, 2021. Id. at 20. The deadline has been changed to July 27, 2021. The Postal Service was to file its Notice of Designated Materials by July 27, 2021. Id. The deadline for the Postal Service's Notice of Designated Materials has been changed to July 30, 2021.

The Commission previously set July 22, 2021 as the deadline for parties to request to present oral argument at the hearing, assuming no rebuttal case is filed. Id. at 22. This deadline has been changed to July 28, 2021.

Assuming no rebuttal case is filed, the Commission previously reserved July 29, 2021, July 30, 2021, and August 2, 2021 for hearing dates. Id. at 19. The new reserved hearing dates shall be August 4-6, 2021.

Assuming no rebuttal case is filed, the deadline for initial briefs or statements of position was previously set for August 9, 2021 and reply briefs for August 16, 2021. Id. at 21. The new deadline for initial briefs and statements of position is August 13, 2021. The new deadline for reply briefs is August 20, 2021.

Additionally, the Commission also changes the dates previously reserved for hearing in the event of rebuttal and/or surrebuttal testimony as follows. If any party files a notice of intent to file a rebuttal case by July 23, 2021 but no surrebuttal testimony will be presented, then the new reserved hearing dates shall be August 11-13, 2021. If any party files a notice of intent to file a rebuttal case by July 23, 2021, and the Commission approves the presentation of surrebuttal testimony, then the new reserved hearing dates shall be August 18-20, 2021.

Motions for leave to file a surrebuttal case were due July 30, 2021 and responses to these motions were due August 3, 2021. Id. at 18. These deadlines have been changed to August 6, 2021 and August 10, 2021, respectively. If granted, any surrebuttal case—previously due by August 5, 2021—is now due by August 11, 2021. See id.

The Commission shall issue its advisory opinion in this proceeding by September 29, 2021. The timing of the Commission's advisory opinion will still be completed prior to the Postal Service's announced plans to implement the changes no earlier than October 1, 2021. Request at 1.

It is ordered:

1. The modified procedural schedule for this proceeding is set forth below the signature of this order.

2. The Secretary shall arrange for publication of this order in the Federal Register.

By the Commission.
Erica A. Barker,
Secretary.

Procedural Schedule for Docket No. N2021-2
[Modified by the Commission, July 8, 2021]
Discovery Deadlines for the Postal Service's Direct Case
Filing of Discovery Requests | July 21, 2021.
Filing of the Postal Service's Answers to Discovery | July 28, 2021.
Deadlines in Preparation for Hearing
Filing of Notice Confirming Intent to Conduct Oral Cross-Examination | July 28, 2021.
Filing of Request to Present Oral Argument | July 28, 2021.
Filing of Notice of Designations | July 27, 2021.
Filing of Notices of Designated Materials | July 30, 2021.
Rebuttal Case Deadlines (if applicable)
Filing of Notice Confirming Intent to File a Rebuttal Case | July 23, 2021.
Filing of Rebuttal Case | August 4, 2021.
Surrebuttal Case Deadlines (if applicable)
Filing of Motion for Leave to File Surrebuttal Case | August 6, 2021.
Filing of Response to Motion for Leave to File Surrebuttal Case | August 10, 2021.
Filing of Surrebuttal Case (if authorized) | August 11, 2021.
Hearing Dates
Hearings (with no Rebuttal Case) | August 4-6, 2021.
Hearings (with Rebuttal Case, but no authorized Surrebuttal Case) | August 11-13, 2021.
Hearings (with Rebuttal Case and authorized Surrebuttal Case) | August 18-20, 2021.
Briefing Deadlines
Filing of Initial Briefs (with no Rebuttal Case) | August 13, 2021.
Filing of Reply Briefs (with no Rebuttal Case) | August 20, 2021.
Statement of Position Deadline
Filing of Statement of Position (with no Rebuttal Case) | August 13, 2021.
Advisory Opinion Deadline
Filing of Advisory Opinion (absent determination of good cause for extension) | September 29, 2021.

[FR Doc. 2021-14859 Filed 7-12-21; 8:45 am]

BILLING CODE 7710-FW-P